DEPARTMENT OF TRANSPORTATION

Coast Guard

33 CFR Part 165

[CGD09-96-017]

RIN 2115-AA84

Prevention of Collisions Between Commercial and Recreational Vessels in the South Passage of Lake Erie Western Basin

AGENCY: Coast Guard, DOT.

ACTION: Advance notice of proposed rulemaking; withdrawal.

SUMMARY: On December 26, 1996 the Coast Guard published an advance notice of proposed rulemaking (ANPRM) requesting public comment on proposed regulations for the prevention of collisions between commercial and recreational vessels in the South Passage of the Lake Erie Western Basin. The ANPRM sought public comment on proposed regulations in the South Passage of the Lake Erie Western Basin. There were no comments for this proposed regulation. The Coast Guard is withdrawing this advance notice of proposed rulemaking and closing this rulemaking project.

DATES: The December 26, 1996, advance notice of proposed rulemaking is withdrawn as of January 25, 2002.

ADDRESSES: Material received from the public, as well as documents indicated in this preamble as being available in the docket, are part of docket [CGD09-96-017] and are available for inspection or copying at the Marine Safety Analysis and Policy Branch, Ninth Coast Guard District, Room 2069, 1240 E. Ninth Street, Cleveland, Ohio, 44199-2060 between 7 a.m. and 3:30 p.m., Monday through Friday, except Federal holidays.

FOR FURTHER INFORMATION CONTACT: CDR Michael Gardiner, Chief, Marine Safety Analysis and Policy Branch, Ninth Coast Guard District. The phone number is (216) 902-6047.

SUPPLEMENTARY INFORMATION:

Background and Purpose

On December 26, 1996 we published an advance notice of proposed rulemaking (ANPRM) titled Prevention of Collisions Between Commercial and Recreational Vessels in the South Passage of Lake Erie Western Basin in the Federal Register (61 FR 67971). We received no comments on the ANPRM. No public hearing was requested, and none was held.

This rulemaking was primarily in response to a collision between a tug and barge and a small pleasure craft. The tragic results of that collision were investigated by the Coast Guard and those responsible held accountable. In addition, there was a collision in 1992 and again in 1995 which resulted in minor damage and no serious injuries. However, since the 1995 collision, no other collisions have occurred, nor any incidents even known about, that support the need for regulating vessel traffic in this area.

As such, the Coast Guard is withdrawing this advance notice of proposed rulemaking and closing this rulemaking docket. If future action is needed, the Coast Guard will open a new rulemaking and issue a request for comments or a notice of proposed rulemaking.

Dated: January 11, 2002.
James D. Hull,
Rear Admiral, U.S. Coast Guard, Commander, Ninth Coast Guard District.

[FR Doc. 02-3511 Filed 2-12-02; 8:45 am]

BILLING CODE 4910-15-U